LEGAL SERVICES CORPORATION

Sunshine Act Meeting

TIME AND DATE: The Legal Services Corporation's Board of Directors and its six committees will meet July 17-19, 2016. On Sunday, July 17, the first meeting will commence at 1:30 p.m., Eastern Daylight Time (EDT), with the meeting thereafter commencing promptly upon adjournment of the immediately preceding meeting. On Monday, July 18, the first meeting will commence at 8:30 a.m., EDT, with the next meeting commencing promptly upon adjournment of the immediately preceding meeting. On Tuesday, July 19, the first meeting will commence at 8 a.m., EDT, and will be followed by the closed session meeting of the Board of Directors which will commence promptly upon adjournment of the prior meeting.

PLACE: The Hilton Burlington Hotel, 60 Battery Street, Burlington, Vermont 05401.

Public Observation: Unless otherwise noted herein, the Board and all committee meetings will be open to public observation. Members of the public who are unable to attend in person but wish to listen to the public proceedings may do so by following the telephone call-in directions provided below.

Call-In Directions for Open Sessions:

• Call toll-free number: 1-866-451-4981;

• When prompted, enter the following numeric pass code: 5907707348

• When connected to the call, please immediately “MUTE” your telephone.

Members of the public are asked to keep their telephones muted to eliminate background noises. To avoid disrupting the meeting, please refrain from placing the call on hold if doing so will trigger recorded music or other sound. From time to time, the presiding Chair may solicit comments from the public.

Meeting Schedule
| Time *
Sunday, July 17, 2016
1. Audit Committee | 1:30 p.m.
2. Finance Committee
3. Board of Directors
4. Institutional Advancement Committee
5. Communications Subcommittee of the Institutional Advancement Committee
Monday, July 18, 2016
1. Operations & Regulations Committee | 8:30 a.m.
2. Delivery of Legal Services Committee
3. Governance and Performance Review Committee
Tuesday, July 19, 2016
1. Board of Directors | 8 a.m.

* Please note that all times in this notice are in Eastern Daylight Time.

STATUS: Open, except as noted below.

Board of Directors—Open, except that, upon a vote of the Board of Directors, a portion of the meeting may be closed to the public to hear briefings by management and LSC's Inspector General, and to consider and act on the General Counsel's report on potential and pending litigation involving LSC, and on a list of prospective funders.**

** Any portion of the closed session consisting solely of briefings does not fall within the Sunshine Act's definition of the term “meeting” and, therefore, the requirements of the Sunshine Act do not apply to such portion of the closed session. 5 U.S.C. 552b(a)(2) and (b). See also 45 CFR 1622.2 & 1622.3.

Audit Committee—Open, except that the meeting may be closed to the public to hear a briefing on the Office of Compliance and Enforcement's active enforcement matters, and a report on the integrity of electronic data. **

Institutional Advancement Committee—Open, except that the meeting may be closed to the public to discuss recommendation of new prospective donors.**

Governance and Performance Review Committee—Open, except that the meeting may be closed to the public to discuss transition planning.**

A verbatim written transcript will be made of the closed session of the Board, Institutional Advancement Committee, Audit Committee, and Governance and Performance Review Committee. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

July 17, 2016

Audit Committee

Open Session

1. Approval of agenda

2. Approval of minutes of the Committee's meeting on April 18, 2016

3. Review of Audit Charter

4. Update about Office of Inspector General Audit

• John Seeba, Assistant Inspector General

5. Management update regarding risk management

• Ron Flagg, General Counsel

6. Briefing regarding follow-up by Office of Compliance and Enforcement on referrals by the Office of Inspector General regarding audit reports and annual Independent Public audits of grantees

• Lora Rath, Director of Compliance and Enforcement

• John Seeba, Assistant Inspector General for Audits

7. Public comment

8. Consider and act on other business

Closed Session

9. Approval of minutes of the Committee's Closed Session meeting of April 18, 2016

10. Briefing by the Office of Compliance and Enforcement on active enforcement matter(s) and follow-up to open investigation referrals from the Office of Inspector

• Lora Rath, Director of Compliance and Enforcement

11. Consider and act on motion to adjourn the meeting

July 17, 2016

Finance Committee

Open Session

1. Approval of agenda

2. Approval of minutes of the Committee's Open Session Telephonic meeting on June 17, 2016

3. Discussion and review of Committee's evaluation and the Committee's goals for FY 2016

4. Presentation of LSC's Financial Report for the first eight months of FY 2016

• David Richardson, Treasurer/Comptroller

5. Review of internal budgetary adjustments for FY 2016 Consolidated Operating Budget

• David Richardson, Treasurer/Comptroller

6. Report on the FY 2017 appropriations process

• Carol Bergman, Director of Government Relations & Public Affairs

7. Consider and act on Temporary Operating Authority for FY 2017 Resolution 2016-XXX

• David Richardson, Treasurer/Comptroller

8. Consider and act on FY 2018 Budget Request Resolution 2016-XXX

• Jim Sandman, President

• Carol Bergman, Director, Government Relations and Public Affairs

• Jeffrey Schanz, Inspector General

9. Public comment

10. Consider and act on other business

11. Consider and act on adjournment of meeting

Institutional Advancement Committee

1. Approval of agenda

2. Approval of minutes of the Committee's meeting on April 17, 2016

3. Update on Leaders Council

• John G. Levi, Chairman

4. Development report

• Wendy Rhein, Chief Development Officer

5. LSC Policy on Procurements Using Private Funds

• Wendy Rhein, Chief Development Officer

6. Public Comment

7. Consider and act on other business

8. Consider and act on motion to adjourn open session meeting and proceed to a closed session

Closed Session

9. Approval of the minutes of the Committee's Closed Session meeting on April 17, 2016

10. Development activities report

11. Consider and act on motion to approve Leaders Council invitees list

12. Consider and act on other business

13. Consider and act on motion to adjourn the meeting

July 17, 2016

Communications Subcommittee of the Institutional Advancement Committee

Open Session

1. Approval of agenda

2. Approval of minutes of the Subcommittee's meeting on April 17, 2016

3. Communications analytics update

4. Board visits to LSC programs

• John G. Levi, Chairman of the Board

• Julie Reiskin, Subcommittee Chair

5. Youth Brochure Julie Reiskin, Subcommittee Chair

6. Public comment

7. Consider and act on other business

8. Consider and act on motion to adjourn the meeting

July 18, 2016

Operations & Regulations Committee

Open Session

1. Approval of agenda

2. Approval of minutes of the Committee's meeting on April 18, 2016

3. Consider and act on revised population estimates for grants to serve agricultural workers

• Ron Flagg, General Counsel

• Bristow Hardin, Program Analyst, Office of Data Governance and Analysis

• Carlos A. Manjarrez, Director, Office of Data Governance and Analysis

• Mark Freedman, Senior Associate General Counsel

4. Report on additional uses of recovered grant funds beyond emergency grants in federally-declared disaster areas

• Jim Sandman, President

• Janet LaBella, Director, Office of Program Performance

• Mark Freedman, Senior Associate General Counsel

5. Report on 2017 Grant Assurances

• Jim Sandman, President

6. Report on LSC Rulemaking Timeline

• Ron Flagg, General Counsel

• Stefanie Davis, Assistant General Counsel

7. Update on Rulemaking Workshops for 45 CFR part 1630—Cost Standards and the Property Acquisition and Management Manual

• Ron Flagg, General Counsel

• Stefanie Davis, Assistant General Counsel

8. Update on Further Notice of Proposed Rulemaking for 45 CFR 1610.7—Transfers of LSC Funds and 45 CFR part 1627—Subgrants and Membership Fees or Dues

• Ron Flagg, General Counsel

• Stefanie Davis, Assistant General Counsel

9. Consider and act on Justification Memo for 45 CFR part 1609—Fee Generating Cases

• Stefanie Davis, Assistant General Counsel

• Davis Jenkins, Graduate Fellow

10. Report on Program Letters regarding (a) Electronic Signatures and (b) Automated Systems for Financial-Eligibility Information Collection and Screening

• Jim Sandman, President

11. Public comment

12. Consider and act on other business

13. Consider and act on motion to adjourn meeting

July 18, 2016

Delivery of Legal Services Committee

Open Session

1. Approval of agenda

2. Approval of minutes of the Committee's meeting on April 18, 2016

3. Update on Client Participation in Program Quality Visit Pilot Project

• Janet LaBella, Director, Office of Program Performance

4. Performance Criteria revision update

• Lynn Jennings, Vice President Grants Management

5. Panel Presentation on and Committee discussion of service delivery models: Performance Area 4, Criteria 8

• Tom Garrett, Executive Director, Vermont Legal Aid

• Nan Heald, Executive Director, Pine Tree Legal Assistance

• Breckie Hayes-Snow, Executive Director Legal Advice & Referral Center

• Lynn Jennings, Vice President for Grants Management (Moderator)

6. Public comment

7. Consider and act on other business

8. Consider and act on motion to adjourn the meeting

Governance and Performance Review Committee

Open Session

1. Approval of agenda

2. Approval of minutes of the Committee's Open Session meeting of April 18, 2016

3. Report on foundation grants and LSC's research agenda

• Jim Sandman, President

4. Report on transition planning

• White House Transition—Carol Bergman, Director Government Relations & Public Affairs

• Board Transition—Ron Flagg, Vice President & General Counsel

5. Consider and act on Resolution to change title and to promote Carol A. Bergman: Vice President, Government Relations & Public Affairs in place of Director of Government Relations & Public Affairs

• Jim Sandman, President

6. Other business

7. Public Comment

8. Consider and act on motion to adjourn open session meeting and proceed to a closed session

Closed Session

9. Discussion regarding transition planning coordination with other non-governmental organization

10. Consider and act on motion to adjourn meeting

July 17 and 19, 2016

Board of Directors

Open Session—July 17th

1. Pledge of Allegiance

2. Approval of agenda

3. Approval of minutes of the Board's Open Session meeting of April 18, 2016 and April 19, 2016

4. Approval of minutes of the Board's Open Session telephonic meeting of May 24, 2016

5. Consider and act on revisions to the LSC 2017—2020 Strategic Plan

6. Consider and act on motion to recess the meeting to July 19th

Open Session—July 19th

7. Chairman's Report

8. Members' Report

9. President's Report

10. Inspector General's Report

11. Consider and act on the report of the Finance Committee

12. Consider and act on the report of the Audit Committee

13. Consider and act on the report of the Operations and Regulations Committee

14. Consider and act on the report of the Governance and Performance Review Committee

15. Consider and act on the report of the Institutional Advancement Committee

16. Consider and act on the report of the Delivery of Legal Services Committee

17. Consider and act on Resolution Recognizing Abner J. Mikva

18. Public Comment

19. Consider and act on other business

20. Consider and act on motion to adjourn the open session meeting and proceed to a closed session

Closed Session

21. Approval of minutes of the Board's Closed Session meeting of April 19, 2016

22. Management briefing

23. Inspector General briefing

24. General Counsel's briefing on potential and pending litigation involving LSC

25. Consider and act on list of prospective funders

26. Consider and act on motion to adjourn meeting

CONTACT PERSON FOR MORE INFORMATION: Katherine Ward, Executive Assistant to the Vice President & General Counsel, at (202) 295-1500. Questions may be sent by electronic mail to FR_NOTICE_QUESTIONS@lsc.gov.

Non-Confidential Meeting Materials: Non-confidential meeting materials will be made available in electronic format at least 24 hours in advance of the meeting on the LSC Web site, at http://www.lsc.gov/board-directors/meetings/board-meeting-notices/non-confidential-materials-be-considered-open-session.

Accessibility: LSC complies with the Americans with Disabilities Act and Section 504 of the 1973 Rehabilitation Act. Upon request, meeting notices and materials will be made available in alternative formats to accommodate individuals with disabilities. Individuals who need other accommodations due to disability in order to attend the meeting in person or telephonically should contact Katherine Ward, at (202) 295-1500 or FR_NOTICE_QUESTIONS@lsc.gov, at least 2 business days in advance of the meeting. If a request is made without advance notice, LSC will make every effort to accommodate the request but cannot guarantee that all requests can be fulfilled.

Dated: July 8, 2016.
Katherine Ward,
Executive Assistant to the Vice President for Legal Affairs, General Counsel & Corporate Secretary.

[FR Doc. 2016-16568 Filed 7-8-16; 4:15 pm]

BILLING CODE 7050-01-P